DEPARTMENT OF TRANSPORTATION

Maritime Administration

[USCG-2006-28532]

Port Dolphin Energy LLC, Port Dolphin Energy Liquefied Natural Gas Deepwater Port License Application

AGENCY: Maritime Administration, DOT.

ACTION: Notice of availability; notice of public meeting; request for comments.

SUMMARY: The Maritime Administration (MARAD) and the Coast Guard announce the availability of the Draft Environmental Impact Statement (DEIS) for Port Dolphin Energy LLC, Port Dolphin Energy Liquefied Natural Gas Deepwater Port license application. The application describes a project that would be located approximately 28 miles off the western coast of Florida, and approximately 42 miles from Port Manatee, Manatee County, Florida. Publication of this notice begins a 45 day comment period and provides information on how to participate in the process.

DATES: The public meeting in Palmetto, FL will be held on May 6th, 2008. The public meeting will be held from 5 p.m. to 7 p.m. and will be preceded by an open house from 3 p.m. to 4:30 p.m. The public meeting may end earlier or later than the stated time, depending on the number of persons wishing to speak. Material submitted in response to the request for comments must reach the Docket Management Facility by June 2, 2008.

ADDRESSES: Public Open House and Meeting: The Manatee Convention Center, Conference Center, One Haben Blvd., Palmetto, Florida 3422. (941) 722-3244.

The DEIS, the application, and associated documentation is available for viewing at the Federal Docket Management System Web site: http://www.regulations.gov under docket number 28532.

Docket submissions for USCG-2006-28532 should be addressed to: Department of Transportation, Docket Management Facility, 1200 New Jersey Avenue, SE., West Building, Ground Floor, Room W12-140, Washington, DC 20590-0001.

The Federal Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://regulations.gov.

FOR FURTHER INFORMATION CONTACT: Ray Martin, U.S. Coast Guard, telephone: 202-372-1449, e-mail: raymond.w.martin@uscg.mil or Chris Hanan, U.S. Maritime Administration, telephone: 202-366-1900, e-mail: Christopher.Hanan@dot.gov. If you have questions on viewing the docket, call Renee V. Wright, Program Manager, Docket Operations, telephone 202-493-0402.

SUPPLEMENTARY INFORMATION:

Public Meeting and Open House

We invite you to learn about the proposed deepwater port at an informational open house, and to comment at a public meeting on the proposed action and the evaluation contained in the DEIS.

In order to allow everyone a chance to speak at the public meeting, we may limit speaker time, or extend the meeting hours, or both. You must identify yourself, and any organization you represent, by name. Your remarks will be recorded or transcribed for inclusion in the public docket.

You may submit written material at the public meeting, either in place of or in addition to speaking. Written material must include your name and address, and will be included in the public docket.

Public docket materials will be made available to the public on the Federal Docket Management System (FDMS). See “Request for Comments” for information about FDMS and your rights under the Privacy Act.

All public meeting locations will be wheelchair-accessible. If you plan to attend the open house or public meeting, and need special assistance such as sign language interpretation or other reasonable accommodation, please notify the Coast Guard (see FOR FURTHER INFORMATION CONTACT) at least 3 business days in advance. Include your contact information as well as information about your specific needs.

Request for Comments

We request public comments or other relevant information on the DEIS. The public meeting is not the only opportunity you have to comment. In addition to or in place of attending a meeting, you can submit comments to the Federal Docket Management Facility during the public comment period (see DATES). We will consider all comments and material received during the comment period for the DEIS. We will announce the availability of the Final EIS (FEIS) and once again give you the opportunity to review and comment. If you want that notice sent directly to you please contact representatives at the public meeting or the Coast Guard representative identified in FOR FURTHER INFORMATION CONTACT.

Submissions should include:

• Docket number USCG-2006-28532.

• Your name and address.

Submit comments or material using only one of the following methods:

• Electronic submission to FDMS, http://regulations.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the FDMS Web site (http://regulations.gov), and will include any personal information you provide. Therefore, submitting this information makes it public. You may wish to read the Privacy Act notice that is available on the FDMS website, or the Department of Transportation Privacy Act Statement that appeared in the Federal Register on April 11, 2000 (65 FR 19477).

You may view docket submissions at the Docket Management Facility (see ADDRESSES), or electronically on the FDMS website.

Background

Information about deepwater ports, the statutes, and regulations governing licensing, and the receipt of the current application for the proposed Port Dolphin liquefied natural gas (LNG) deepwater port appears in the Federal Register on June 25, 2007 (72 FR 34741). The Notice of Intent to Prepare an EIS for the proposed action was published in the Federal Register in Volume 72 FR 38116, Thursday, July 12, 2007. The DEIS, application materials and associated comments are available on the docket. Information from the “Summary of the Application” from previous Federal Register notices is included below for your convenience.

Proposed Action and Alternatives

The proposed action requiring environmental review is the Federal licensing action of the proposed deepwater port described in “Summary of the Application” below. The alternatives available for the licensing decision on the proposed port are: (i) Licensing as proposed, (ii) licensing with conditions (including conditions designed to mitigate environmental, safety and security impacts), and (iii) denying the license, which for purposes of environmental review is the “no-action” alternative. Alternates examined under NEPA are more fully discussed in the DEIS. The Coast Guard and MARAD are the lead Federal agencies for the preparation of the EIS. Address any questions about the proposed action or the DEIS to the Coast Guard project manager identified in FOR FURTHER INFORMATION CONTACT.

Summary of the Application

Port Dolphin Energy LLC, proposes to own, construct, and operate a deepwater port, named Port Dolphin, in the Federal waters of the Outer Continental Shelf in the St. Petersburg (PB) blocks: PB545, PB589 and PB590, approximately 28 miles off the west coast of Florida to the southwest of Tampa Bay, in a water depth of approximately 100 feet. Port Dolphin would consist of a permanently moored unloading buoy system with two submersible buoys separated by a distance of approximately three miles. Each unloading buoy would be permanently secured to eight mooring lines, consisting of wire rope, chain, and buoyancy elements, each attached to anchor points on the seabed.

The buoys would be designed to moor specialized type of LNG vessels called Shuttle and Regasification Vessels (SRV) of 145,000 and 217,000 cubic meter capacities. SRV vessels are equipped to vaporize cryogenic LNG cargo to natural gas through an onboard closed loop vaporization system, and to odorize and meter gas for send-out by means of the unloading buoy to conventional subsea pipelines. The SRVs would moor to the unloading buoys which connect through the hull of the vessels to specially designed turrets that would enable the vessels to weathervane or rotate in response to prevailing wind, wave, and current directions. When the vessels are not present, the buoys would be submerged on a special landing pad on the seabed, 60-70 feet below the sea surface.

Each unloading buoy would connect through a 16-inch flexible riser and a 36-inch flowline to a Y intersection and then a 36-inch pipeline approximately 42 miles in length that would connect onshore in Port Manatee, Manatee County, Florida. The pipeline would connect with the Gulfstream Natural Gas System, LLC and Tampa Electric Company (TECO).

The 36-inch gas transmission line will make landfall on Port Manatee property. The onshore portion of the transmission pipeline will proceed in a generally easterly direction for approximately 4 miles to interconnection points with the Gulfstream and TECO pipeline systems.

Only shuttle and regasification vessels (SRVs) will call on Port Dolphin. Offloading should require between 4-8 days and when empty the SRV would disconnect from the buoy and leave the port.

Initially it is expected that Port Dolphin would be capable of a natural gas throughput of 400 mmscfd and would eventually be capable of 800 mmscfd with a peak capacity of 1200 mmscfd by having at least one SRV regasifying and discharging at all times. The system would be designed so that two SRVs can be moored simultaneously for continuous unloading of natural gas.

Concurrent with their application for the deepwater port, the Applicant submitted an application to the Federal Energy Regulatory Commission (FERC) for a Certificate of Public Convenience and Necessity (Certificate) under section 7 of the Natural Gas Act (NGA), as amended, to construct and operate a new natural gas pipeline and ancillary facilities in Florida. FERC is the cooperating Federal agency responsible for the review of the onshore portion of the natural gas pipelines and associated aboveground components. The application was assigned FERC Docket Nos. CP07-191 and 192. FERC issued a Notice of Application in the Federal Register for the Proposed Onshore Pipeline on May 9, 2007.

After discussions with Florida Department of Natural Resources, the Applicant made changes to their onshore pipeline route. Subsequently, the Applicant filed an amended application with the FERC. On January 28, 2008, the FERC issued a new Notice of Amendment for the Proposed Onshore Pipeline, which was published in the Federal Register on February 4, 2008. The amended application was assigned Docket No. CP07-191-001. FERC also opened an additional scoping period to solicit comments on the proposed revisions to the onshore pipeline route.

As required by FERC regulations, FERC will also maintain a docket for the FERC portion of the project. The docket number is CP07-191-001. The filing may also be viewed on the web at http://www.ferc.gov using the “eLibrary” link. Enter the docket number excluding the last three digits in the docket number field to access the document. For assistance, call (866) 208-3767 or TYY, (202) 502-8659.

In addition, pipelines and structures such as the moorings may require permits under Section 404 of the Clean Water Act and Section 10 of the Rivers and Harbors Act which are administered by the Army Corps of Engineers (USACE).

Port Dolphin will also require permits from the Environmental Protection Agency (EPA) pursuant to the provisions of the Clean Air Act, as amended, and the Clean Water Act, as amended.

The new pipeline will be included in the National Environmental Policy Act (NEPA) review as part of the deepwater port application process. FERC, EPA, and the USACE, among others, are cooperating agencies and will participate in the NEPA process as described in 40 CFR 1501.6; and will incorporate the EIS into their permitting processes.

Construction of the deepwater port is expected to take approximately 11 months with startup of commercial operations following construction, should a license be issued. The deepwater port would be designed, constructed and operated in accordance with applicable codes and standards.

Privacy Act

The electronic form of all comments received by the Federal Docket Management System can be searched by the name of the individual submitting the comment (or signing the comment, if submitted on behalf of an association, business, labor union, etc.). The DOT Privacy Act Statement can be viewed in the Federal Register published on April 11, 2000 (Volume 65, Number 70, pages 19477-78) or you may visit http://regulations.gov.

(Authority: 49 CFR 1.66)

By Order of the Maritime Administrator.
Dated: April 11, 2008.
Christine Gurland,
Acting Secretary, Maritime Administration.

[FR Doc. E8-8343 Filed 4-16-08; 8:45 am]

BILLING CODE 4910-81-P